DEPARTMENT OF HEALTH AND HUMAN SERVICES

Centers for Disease Control and Prevention

[30Day-15-15OO]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

CDC Work@Health® Advance Program: Evaluation of Train-the-Trainer and Technical Assistance Programs—New—National Center for Chronic Disease Prevention and Health Promotion (NCCDPHP), Centers for Disease Control and Prevention (CDC).

Background and Brief Description

The Centers for Disease Control and Prevention (CDC) is expanding and enhancing a comprehensive workplace health program called Work@Health. Through the Work@Health program, CDC developed a training curriculum for employers based on a problem-solving approach to improving employer knowledge and skills related to effective, science-based workplace health programs, and supporting the adoption of these programs in the workplace. Topics covered in the Work@Health curriculum include principles, strategies, and tools for leadership engagement; how to make a business case for workplace health programs; how to assess the needs of organizations and individual employees; how to plan, implement, and evaluate sustainable workplace health programs; and how to partner with community organizations for additional support. The program also offers a Train-the-Trainer component to promote large-scale dissemination of the program.

CDC's Work@Health activities support and complement the efforts of numerous employers, public health agencies, non-profit organizations, and other professional organizations that share an interest in increasing the number of effective, science-based workplace health programs across the United States. Some of these entities have participated directly in Work@Health to take their training and apply it more broadly in their communities. Other entities offer employers opportunities for recognition or accreditation of their workplace health programs based on many of the core concepts and principles addressed in the Work@Health training. Recognition or accreditation programs enhance standards of practice and are appealing to employers to improve their visibility and status, but typically take several years of program growth and development for employers to be in position to successfully obtain them.

The planned Advance Program will offer advanced Work@Health Accreditation Preparation Technical Assistance to those employers who have previously received a Certificate of Completion for participating in the basic Work@Health training and technical assistance program. In addition to emphasizing the mastery of core workplace health principles and concepts introduced in the basic course, the expanded Work@Health program will offer targeted technical assistance to help employers prepare for the process of getting their worksite accredited by an external organization. The advanced technical assistance will include an organizational accreditation readiness assessment as well as assessment-driven technical assistance focused on organizational alignment, population health management, and data, outcomes, and reporting. Employers will be responsible for selecting the external recognition or accreditation program that best fits with their vision and goals.

The Advance Program also includes an updated Train-the-Trainer option so that trainers are prepared to deliver the Work@Health curriculum to employers across the country. Participants will receive technical assistance and access to an online peer learning platform.

CDC is requesting OMB approval to collect the information needed to implement and evaluate the Work@Health Advance Program. CDC plans to collect information from employers who have previously completed the Work@Health training and technical assistance to assess readiness for accreditation of their workplace health program and their need for additional technical assistance; to obtain trainees' reactions to the advanced technical assistance; and to document their experience applying for and receiving accreditation of their workplace health program. CDC also plans to collect information needed to select the individuals who will participate in the enhanced Train-the-Trainer model; and to assess changes in trainees' knowledge and skills before and after participation in Work@Health Train-the Trainer model. Graduates of the Work@Health program will be given the opportunity to complete an annual survey to assess their capacity to sustain their workplace health program after formal training participation has ended. All information will be collected online, with the exception of the annual employer survey which will be conducted by telephone.

CDC will use the information collected to evaluate the effectiveness of the Work@Health Program in terms of (1) increasing employer's knowledge and capacity to implement workplace health programs and to facilitate applying for accreditation for their programs, and (2) increasing the number of trainers who can provide employers with knowledge and skills in science-based workplace health programs, policies, and practices. The information will also be used to identify the best way(s) to deliver skill-based training and technical support to employers in the area of workplace health and to cultivate peer-to-peer cooperation and mentoring.

OMB approval is requested for three years. The target number of employers participating in the enhanced technical assistance program component is 360. The target number of participants for the train-the-trainer program component is 300.

Participation in Work@Health is voluntary and there are no costs to participants other than their time. The total estimated annualized burden hours are 450.

Estimated Annualized Burden Hours
Type of respondents | Form name | Number of respondents | Number of responses per respondent | Average burden per response (in hr)
Employers | CDC Work@Health Accreditation Readiness Assessment Tool | 120 | 2 | 30/60
| CDC Work@Health Advanced TA Survey | 120 | 2 | 20/60
| CDC Work@Health Follow-up Accreditation Survey | 120 | 1 | 10/60
| CDC Work@Health Advance Employer Follow-Up Survey | 120 | 1 | 15/60
Interested New Train-the-Trainer Participants | Train-the-Trainer Application Form | 200 | 1 | 30/60
New Train-the-Trainer Participants in the Work@Health® Program | CDC Work@Health Train-the-Trainer Knowledge and Skills Survey | 100 | 2 | 30/60

Leroy A. Richardson,
Chief, Information Collection Review Office, Office of Scientific Integrity, Office of the Associate Director for Science, Office of the Director, Centers for Disease Control and Prevention.

[FR Doc. 2015-13384 Filed 6-1-15; 8:45 am]

BILLING CODE 4163-18-P